GENERAL SERVICES ADMINISTRATION

[Notice-PBS-2018-08; Docket No. 2018-0002; Sequence No. 23]

Public Building Service (PBS); Notice of Availability and Announcement of Meeting for the Draft Environmental Impact Statement for the Otay Mesa Port of Entry, San Diego, California; Correction

AGENCY: Public Building Service (PBS), General Services Administration (GSA).

ACTION: Notice of Availability and Announcement of Meeting for the Draft Environmental Impact Statement for the Otay Mesa Port of Entry, San Diego, California; Correction.

SUMMARY: GSA published a notice in the Federal Register on August 10, 2016, at 83 FR 39753, regarding the Notice of Availability and Announcement of Meeting for the Draft Environmental Impact Statement for the Otay Mesa Port of Entry, San Diego, California. GSA is making an editorial change to the Dates, Addresses, and Public Meeting sections to correct the date of the DEIS Public Meeting; the location of the DEIS; and the comment period end date.

DATES: Applicable: Friday, August 24, 2018.

FOR FURTHER INFORMATION CONTACT: Osmahn Kadri, Portfolio Management Division, Public Buildings Service, GSA at 415-522-3617. Please cite Notice-PBS-2018-06; Correction.

SUPPLEMENTARY INFORMATION:

Correction

In the notice FR Doc. 2018-17211 published in the Federal Register at 83 FR 39753, August 10, 2018, make the following corrections:

On page 39753, first sentence of the paragraph under the Dates section, remove “Thursday, August 9th” and add “Wednesday, September 5,” in its place.

On page 39753, third sentence of the paragraph under the Dates section, remove “Friday, August 31, 2018” and add Tuesday, October 9th, 2018 in its place.

On pages 39753 and 39754, first sentence of the second paragraph under the ADDRESSES section, remove “https://www.gsa.gov/about-us/regions/welcome-to-the-pacific-rim-region-9/land-ports-of-entry/otay-mesa-land-port-of-entry” and add “https://www.gsa.gov/about-us/regions/welcome-to-the-pacific-rim-region-9/land-ports-of-entry/otay-mesa-land-port-of-entry/otay-mesa-environmental-review” in its place.

On page 39754, second sentence of the paragraph under the Public Meeting section, remove “August 31, 2018” and add Tuesday, October 9th, 2018 in its place.

Dated: August 16, 2018.
Matthew Jear,
Director, Portfolio Management Division, Pacific Rim Region, Public Buildings Service.

[FR Doc. 2018-18117 Filed 8-23-18; 8:45 am]

BILLING CODE 6820-YF-P